DEPARTMENT OF ENERGY

Federal Energy Regulatory Commission

[Docket No RP02-524-000]

Cove Point LNG Limited Partnership; Notice of Annual Charge Adjustment and TARIFF Filing

September 6, 2002.

Take notice that on August 30, 2002 Cove Point LNG Limited Partnership (Cove Point) tendered for filing as part of its FERC Gas Tariff, Second Revised Volume No. 1 certain tariff sheets listed on Appendix A to the filing, to be effective October 1, 2002.

Cove Point states that the purpose of the instant filing is to reflect an increase in the Annual Charge Adjustment (ACA) Charge in the commodity portion of Cove Points rates. Pursuant to Order No. 472, the Commission has assessed Cove Point its ACA unit Rate of $.0022/dt, effective October 1, 2002.

Cove Point states that copies of the filing are being mailed to affected customers and interested State Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-23228 Filed 9-11-02; 8:45 am]

BILLING CODE 6717-01-P